OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between January 1, 2007, and January 31, 2007. Future notices will be published on the fourth Tuesday of each month, or as soon as possible thereafter. A consolidated listing of all authorities as of June 30 is published each year.

Schedule A

No Schedule A appointments were approved for January 2007.

Schedule B

No Schedule B appointments were approved for January 2007.

Section 213.3304 Department of State

DSGS61209 Staff Assistant to the Ambassador-At-Large (War Crimes). Effective January 05, 2007.

DSGS61125 Protocol Officer (Visits) to the Chief of Protocol. Effective January 09, 2007.

DSGS60734 Public Affairs Specialist to the Assistant Secretary for Public Affairs. Effective January 12, 2007.

DSGS61109 Public Affairs Specialist to the Assistant Secretary for Western Hemispheric Affairs. Effective January 12, 2007.

DSGS61207 Special Assistant (Senior Advisor) to the Assistant Secretary for Democracy, Human Rights and Labor. Effective January 23, 2007.

Section 213.3305 Department of the Treasury

DYGS00407 Senior Advisor to the Assistant Secretary for Financial Markets. Effective January 05, 2007.

DYGS60401 Special Assistant for Advance to the Director of Strategic Planning, Scheduling and Advance. Effective January 26, 2007.

DYGS00482 Deputy Executive Secretary. Effective January 30, 2007.

Section 213.3306 Department of Defense

DDGS17003 Defense Fellow to the Special Assistant to the Secretary of Defense for White House Liaison. Effective January 04, 2007.

DDGS16992 Staff Assistant to the Special Assistant to the Secretary and Deputy Secretary of Defense. Effective January 09, 2007.

DDGS17000 Special Assistant to the Deputy Under Secretary of Defense (International Technology Security). Effective January 09, 2007.

DDGS17008 Special Events Coordinator to the Assistant Secretary of Defense Public Affairs. Effective January 29, 2007.

Section 213.3307 Department of the Army

DWGS60030 Confidential Assistant to the Deputy Under Secretary of the Army. Effective January 29, 2007.

Section 213.3310 Department of Justice

DJGS00067 Chief of Staff to the Assistant Attorney General for Justice Programs. Effective January 05, 2007.

DJGS00162 Counsel to the Assistant Attorney General. Effective January 05, 2007.

DJGS00228 Counsel to the Chief of Staff. Effective January 17, 2007.

DJGS00195 Counsel to the Assistant Attorney General to the Deputy Assistant Attorney General. Effective January 26, 2007.

DJGS00314 Counsel to the Assistant Attorney General. Effective January 29, 2007.

Section 213.3311 Department of Homeland Security

DMGS00604 Special Assistant to the Secretary for Stakeholder Affairs and Information Integration to the Chief of Staff. Effective January 05, 2007.

DMGS00614 Confidential Assistant to the Chief Medical Officer. Effective January 05, 2007.

DMGS00615 Chief of Staff to the Assistant Secretary for Policy. Effective January 05, 2007.

DMGS00609 Associate Director of White House Actions and Policy Coordinating Committee Coordinator to the Executive Secretary. Effective January 09, 2007.

DMGS00612 Component Liaison and Correspondence Analyst to the Executive Secretary. Effective January 10, 2007.

DMGS00617 Director of Legislative Affairs for Policy to the Assistant Secretary for Legislative Intergovernmental Affairs. Effective January 10, 2007.

DMGS00619 Director of Legislative Affairs for Border Security and Immigration to the Assistant Secretary for Legislative Intergovernmental Affairs. Effective January 10, 2007.

DMGS00620 Principal Associate Director of White House Actions and Policy Coordinating Committee Coordinator to the Executive Secretary. Effective January 10, 2007.

DMGS00610 Public Affairs and Press Assistant to the Assistant Secretary for Public Affairs. Effective January 16, 2007.

DMGS00622 Associate Director of Communications and Speechwriter to the Director of Communications. Effective January 16, 2007.

DMGS00618 Special Assistant to the Under Secretary for Preparedness. Effective January 17, 2007.

DMGS00624 Component Liaison and Correspondence Analyst to the Executive Secretary. Effective January 23, 2007.

DMGS00626 Deputy Secretary Briefing Book Coordinator to the Executive Secretary. Effective January 24, 2007.

DMGS00613 Junior Writer and Researcher to the Director of Strategic Communications. Effective January 25, 2007.

DMGS00616 Senior Legislative Assistant to the Assistant Secretaries and Deputy Assistant Secretaries to the Assistant Secretary for Legislative Intergovernmental Affairs. Effective January 25, 2007.

DMGS00621 Special Assistant to the Chief Intelligence Officer to the Assistant Secretary for Information Analysis. Effective January 25, 2007.

DMGS00629 Confidential Assistant to the General Counsel to the Chief of Staff. Effective January 30, 2007.

Section 213.3312 Department of the Interior

DIGS01084 Special Assistant to the Director—Scheduling and Advance. Effective January 05, 2007.

DIGS01088 Confidential Assistant to the Solicitor. Effective January 12, 2007.

DIGS01089 Special Assistant to the Deputy Chief of Staff. Effective January 12, 2007.

DIGS01091 Special Assistant (Scheduling and Advance) to the Director—Scheduling and Advance. Effective January 12, 2007.

DIGS01090 Special Assistant (Scheduling and Advance) to the Director—Scheduling and Advance. Effective January 24, 2007.

DIGS01086 Special Assistant (Scheduling and Advance) to the Director—Scheduling and Advance. Effective January 25, 2007.

Section 213.3313 Department of Agriculture

DAGS00872 Confidential Assistant to the Director of Communications. Effective January 05, 2007.

DAGS00873 Staff Assistant to the Assistant Secretary for Administration. Effective January 05, 2007.

DAGS00874 Director of Speechwriting to the Director of Communications. Effective January 12, 2007.

DAGS00867 Associate Administrator to the Administrator. Effective January 23, 2007.

DAGS00875 Confidential Assistant to the Assistant Secretary for Congressional Relations. Effective January 31, 2007.

Section 213.3314 Department of Commerce

DCGS00385 Special Assistant to the Associate Under Secretary for Economic Affairs. Effective January 05, 2007.

DCGS00432 Confidential Assistant to the Director of Advance. Effective January 05, 2007.

DCGS00444 Senior Advisor to the Assistant Secretary for Economic Development. Effective January 05, 2007.

DCGS60290 Special Assistant to the Deputy Assistant Secretary for Domestic Operations. Effective January 05, 2007.

DCGS00074 Director of Public Affairs to the Deputy Assistant Secretary for External Affairs and Communication. Effective January 19, 2007.

DCGS00467 Confidential Assistant to the Deputy Assistant Secretary for Economic Development. Effective January 19, 2007.

DCGS00612 Director of Advisory Committees to the Assistant Secretary for Manufacturing and Services. Effective January 19, 2007.

DCGS60006 Confidential Assistant to the Director of Advance. Effective January 25, 2007.

DCGS60072 Director of Congressional Affairs to the Deputy Assistant Secretary for External Affairs and Communication. Effective January 25, 2007.

DCGS60395 Confidential Assistant to the Assistant Secretary and Director General of United States/for Commercial Services. Effective January 25, 2007.

DCGS60609 Confidential Assistant to the Chief of Staff. Effective January 25, 2007.

DCGS00298 Senior Advisor to the Assistant Secretary for Telecommunications and Information. Effective January 26, 2007.

DCGS00326 Confidential Assistant to the Assistant Secretary and Director General of the United States for Commercial Services. Effective January 31, 2007.

Section 213.3315 Department of Labor

DLGS60231 Staff Assistant to the Director of Operations. Effective January 05, 2007.

DLGS60081 Intergovernmental Assistant to the Assistant Secretary for Congressional and Intergovernmental Affairs. Effective January 09, 2007.

DLGS60119 Staff Assistant to the Chief of Staff. Effective January 09, 2007.

DLGS60239 Staff Assistant to the Director of Operations. Effective January 09, 2007.

DLGS60247 Legislative Assistant to the Assistant Secretary for Congressional and Intergovernmental Affairs. Effective January 09, 2007.

DLGS60132 Special Assistant to the Chief of Staff. Effective January 12, 2007.

DLGS60219 Staff Assistant to the Associate Deputy Secretary. Effective January 12, 2007.

DLGS60220 Special Assistant to the Assistant Secretary for Public Affairs. Effective January 16, 2007.

DLGS60146 Attorney Advisor to the Solicitor of Labor. Effective January 24, 2007.

Section 213.3316 Department of Health and Human Services

DHGS60345 Director of Public Affairs to the Assistant Secretary for Children and Families. Effective January 24, 2007.

DHGS60044 Special Assistant to the Assistant Secretary for Legislation. Effective January 25, 2007.

Section 213.3317 Department of Education

DBGS00587 Confidential Assistant to the Director, White House Liaison. Effective January 05, 2007.

DBGS00582 Confidential Assistant to the Assistant Secretary for Postsecondary Education. Effective January 09, 2007.

DBGS00584 Confidential Assistant to the Deputy Assistant Secretary for Media Relations and Strategic Communications. Effective January 09, 2007.

DBGS00585 Senior Advisor to the Deputy Secretary of Education. Effective January 10, 2007.

DBGS00580 Deputy Assistant Secretary for Performance Improvement to the Assistant Secretary for Management. Effective January 12, 2007.

DBGS00588 Special Assistant to the Assistant Secretary for Legislation and Congressional Affairs. Effective January 26, 2007.

DBGS00589 Confidential Assistant to the Director, Scheduling and Advance Staff. Effective January 26, 2007.

DBGS00590 Special Assistant to the Assistant Secretary, Office of Communications and Outreach. Effective January 30, 2007.

DBGS00595 Special Assistant to the Assistant Secretary, Office of Communications and Outreach. Effective January 30, 2007.

DBGS00596 Associate Assistant Deputy Secretary to the Assistant Deputy Secretary. Effective January 30, 2007.

DBGS00598 Confidential Assistant to the Assistant Secretary for Legislation and Congressional Affairs. Effective January 31, 2007.

Section 213.3318 Environmental Protection Agency

EPGS06033 Confidential Assistant to the Deputy Administrator. Effective January 11, 2007.

EPGS06036 Supervisory Public Affairs Specialist to the Associate Administrator for Public Affairs. Effective January 11, 2007.

EPGS06037 Senior Policy Advisor to the Deputy Administrator. Effective January 12, 2007.

EPGS05034 Program Advisor to the Associate Administrator for Congressional and Intergovernmental Relations. Effective January 24, 2007.

Section 213.3303 Office of National Drug Control Policy

QQGS70008 Policy Analyst to the Chief of Staff. Effective January 12, 2007.

QQGS70000 Special Assistant to the Deputy Director for Demand Reduction. Effective January 23, 2007.

QQGS70001 Public Affairs Specialist to the Associate Director for Public Affairs. Effective January 25, 2007.

QQGS70002 Confidential Assistant to the Associate Director for Public Affairs. Effective January 31, 2007.

Section 213.3327 Department of Veterans Affairs

DVGS60037 Special Assistant to the Assistant Secretary for Public and Intergovernmental Affairs. Effective January 05, 2007.

Section 213.3303 Office of Science and Technology Policy

TSGS60045 Assistant to the Director for Legislative Affairs to the Chief of Staff and General Counsel. Effective January 12, 2007.

Section 213.3331 Department of Energy

DEGS00556 Congressional Affairs Officer to the Director, Congressional Affairs. Effective January 19, 2007.

DEGS00557 Special Assistant to the Director, Office of Electricity Delivery and Energy Reliability. Effective January 19, 2007.

DEGS00550 Confidential Assistant to the Assistant Secretary for Congressional and Intergovernmental Affairs. Effective January 22, 2007.

DEGS00558 Advisor, Legislative Affairs to the Principal Deputy Assistant Secretary. Effective January 31, 2007.

DEGS00559 Special Assistant to the Assistant Secretary of Energy (Nuclear Energy). Effective January 22, 2007.

DEGS00552 Deputy Assistant Secretary for Environmental Management and National Security to the Assistant Secretary for Congressional and Intergovernmental Affairs. Effective January 24, 2007.

DEGS00555 Deputy Chief of Staff. Effective January 25, 2007.

DEGS00560 Deputy Assistant Secretary for Energy Policy to the Assistant Secretary for Congressional and Intergovernmental Affairs. Effective January 30, 2007.

Section 213.3331 Federal Energy Regulatory Commission

DRGS17040 Congressional, Intergovernmental and Public Affairs Specialist to the Director, Office of External Affairs. Effective January 10, 2007.

Section 213.3332 Small Business Administration

SBGS00576 Deputy Associate Administrator for Communications and Public Liaison to the Associate Administrator for Communications and Public Liaison. Effective January 09, 2007.

SBGS00608 Assistant Administrator for Congressional and Legislative Affairs. Effective January 09, 2007.

SBGS00609 Director of Performance Management to the Chief Financial Officer. Effective January 16, 2007.

SBGS00594 Press Secretary to the Associate Administrator for Communications and Public Liaison. Effective January 19, 2007.

Section 213.3337 General Services Administration

GSGS00184 Deputy Associate Administrator for Congressional and Intergovernmental Affairs. Effective January 05, 2007.

GSGS00185 Deputy Associate Administrator for Congressional and Intergovernmental Affairs. Effective January 11, 2007.

GSGS00182 Confidential Assistant to the Administrator. Effective January 22, 2007.

GSGS00190 Congressional Relations Analyst to the Associate Administrator for Congressional and Intergovernmental Affairs. Effective January 24, 2007.

Section 213.3344 Occupational Safety and Health Review Commission

SHGS60007 Counsel to the Commission Member. Effective January 31, 2007.

Section 213.3379 Commodity Futures Trading Commission

CTGS00030 Chief of Staff to the Chairperson. Effective January 05, 2007.

CTGS60768 Director, Office of External Affairs to the Chairperson. Effective January 05, 2007.

Section 213.3384 Department of Housing and Urban Development

DUGS60232 Staff Assistant to the Assistant Deputy Secretary for Field Policy and Management. Effective January 05, 2007.

DUGS60474 Special Policy Advisor to the Assistant Secretary for Public and Indian Housing. Effective January 05, 2007.

DUGS60291 Staff Assistant to the Secretary, Housing and Urban Development. Effective January 12, 2007.

DUGS60211 Advance Coordinator to the Director, Office of Executive Scheduling and Operations. Effective January 17, 2007.

Section 213.3394 Department of Transportation

DTGS60055 Associate Director for Governmental Affairs to the Assistant Secretary for Governmental Affairs. Effective January 05, 2007.

DTGS60257 Deputy Director for Public Affairs to the Assistant to the Secretary and Director of Public Affairs. Effective January 05, 2007.

DTGS60229 Special Assistant to the Administrator. Effective January 19, 2007.

DTGS60117 Assistant to the Secretary for Policy to the Secretary. Effective January 30, 2007.

Office of Personnel Management.
Tricia Hollis,
Chief of Staff/Director of External Affairs.

[FR Doc. E7-3756 Filed 3-2-07; 8:45 am]

BILLING CODE 6325-39-P